DEPARTMENT OF ENERGY

Federal Energy Regulatory Commission

Combined Notice of Filings #1

Take notice that the Commission received the following electric corporate filings:

Docket Numbers: EC15-104-000.

Applicants: Tilton Energy, LLC, Rocky Road Power, LLC.

Description: Application for Approval Pursuant to Section 203 of the FPA of Tilton Energy LLC and Rocky Road Power, LLC.

Filed Date: 3/27/15.

Accession Number: 20150327-5356.

Comments Due: 5 p.m. ET 4/17/15.

Docket Numbers: EC15-105-000.

Applicants: Plainfield Renewable Energy, LLC.

Description: Application of Plainfield Renewable Energy, LLC for Authorization Under FPA Sec. 203 for Disposition of Jurisdictional Facilities, Requests for Expedited Consideration, Shortened Comment Period, Waivers of Filing Requirements & Confidential Treatment.

Filed Date: 3/27/15.

Accession Number: 20150327-5358.

Comments Due: 5 p.m. ET 4/17/15.

Take notice that the Commission received the following electric rate filings:

Docket Numbers: ER10-1511-005; ER10-2231-004; ER10-2011-005; ER10-1714-005.

Applicants: Kentucky Utilities Company, LG&E Energy Marketing Inc., PPL EnergyPlus LLC, Louisville Gas and Electric Company.

Description: Third Supplement to June 30, 2014 Triennial Market Power Update of the PPL Southeast Companies.

Filed Date: 3/26/15.

Accession Number: 20150326-5286.

Comments Due: 5 p.m. ET 4/16/15.

Docket Numbers: ER13-136-003; ER13-142-003; ER13-141-003; ER13-138-003; ER13-137-003; ER13-135-003.

Applicants: Georgia-Pacific Brewton LLC, Brunswick Cellulose, Inc., Georgia-Pacific Cedar Springs LLC, Georgia-Pacific Consumer Operations LLC, Palatka, Georgia-Pacific Consumer Products LP, Naheola, Georgia-Pacific Consumer Products LP, Savannah.

Description: Errata to December 30, 2014 Updated Market Power Analysis in Southeast Region of the Georgia-Pacific Entities.

Filed Date: 3/27/15.

Accession Number: 20150327-5214.

Comments Due: 5 p.m. ET 4/17/15.

Docket Numbers: ER15-828-002.

Applicants: Louisville Gas and Electric Company.

Description: Tariff Amendment per 35.17(b): Modifications to Attachment O Formula Rate to be effective 2/1/2015.

Filed Date: 3/30/15.

Accession Number: 20150330-5296.

Comments Due: 5 p.m. ET 4/20/15.

Docket Numbers: ER15-1026-000; ER15-1026-001.

Applicants: Utah Red Hills Renewable Park, LLC.

Description: Second Amendment to February 11, 2015 and March 13, 2015 Utah Red Hills Renewable Park, LLC tariff filings.

Filed Date: 3/27/15.

Accession Number: 20150327-5360.

Comments Due: 5 p.m. ET 4/10/15.

Docket Numbers: ER15-1398-000.

Applicants: PJM Interconnection, L.L.C.

Description: Section 205(d) rate filing per 35.13(a)(2)(iii): Revised Deadlines for Inschedule and Other Clarifying Revisions to be effective 6/1/2015.

Filed Date: 3/30/15.

Accession Number: 20150330-5280.

Comments Due: 5 p.m. ET 4/20/15.

Docket Numbers: ER15-1399-000.

Applicants: Southern California Edison Company.

Description: Section 205(d) rate filing per 35.13(a)(1): 2015 TACBAA Update to be effective 6/1/2015.

Filed Date: 3/30/15.

Accession Number: 20150330-5394.

Comments Due: 5 p.m. ET 4/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2015.
Nathaniel J. Davis, Sr.,
Deputy Secretary.

[FR Doc. 2015-07690 Filed 4-2-15; 8:45 am]

BILLING CODE 6717-01-P